DEPARTMENT OF ENERGY

Federal Energy Regulatory Commission

Combined Notice of Filings #2

Take notice that the Commission received the following electric rate filings:

Docket Numbers: ER13-462-001.

Applicants: Duke Energy Carolinas, LLC.

Description: Duke Energy Carolinas, LLC submits tariff filing per 35.17(b): Joint OATT Attachment C-3 amendment correction to be effective 1/1/2013.

Filed Date: 1/4/13.

Accession Number: 20130104-5119.

Comments Due: 5 p.m. ET 1/25/13.

Docket Numbers: ER13-702-000.

Applicants: PJM Interconnection, L.L.C.

Description: Queue Position #X2-060 & Y1-068—Original SA No. 3469 to be effective 12/5/2012.

Filed Date: 1/4/13.

Accession Number: 20130104-5041.

Comments Due: 5 p.m. ET 1/25/13.

Docket Numbers: ER13-703-000.

Applicants: PJM Interconnection, L.L.C.

Description: Amendments to Schedule 12-Appendices re RTEP approved by PJM Board on 12/5/2012 to be effective 4/4/2013.

Filed Date: 1/4/13.

Accession Number: 20130104-5053.

Comments Due: 5 p.m. ET 2/4/13.

Docket Numbers: ER13-704-000.

Applicants: PacifiCorp.

Description: PacifiCorp submits tariff filing per 35.13(a)(2)(iii: BPA NITSA (Clark PUD) to be effective 1/1/2013.

Filed Date: 1/4/13.

Accession Number: 20130104-5076.

Comments Due: 5 p.m. ET 1/25/13.

Docket Numbers: ER13-705-000.

Applicants: Southern California Edison Company.

Description: Southern California Edison Company submits tariff filing per 35.13(a)(2)(iii: SGIA and Distribution Service Agmt Lancaster WAD B LLC to be effective 3/6/2013.

Filed Date: 1/4/13.

Accession Number: 20130104-5077.

Comments Due: 5 p.m. ET 1/25/13.

Docket Numbers: ER13-706-000.

Applicants: PacifiCorp.

Description: PacifiCorp submits tariff filing per 35.13(a)(2)(iii: Noble Americas Energy Solutions NITSA Rev 5 to be effective 1/1/2013.

Filed Date: 1/4/13.

Accession Number: 20130104-5102.

Comments Due: 5 p.m. ET 1/25/13.

Docket Numbers: ER13-707-000.

Applicants: California Independent System Operator Corporation.

Description: California Independent System Operator Corporation submits tariff filing per 35.13(a)(2)(iii: 2013-01-04 Tariff Amendment—Payment Rescission Rules for Ancillary Services to be effective 10/1/2013.

Filed Date: 1/4/13.

Accession Number: 20130104-5103.

Comments Due: 5 p.m. ET 1/25/13.

Docket Numbers: ER13-708-000.

Applicants: Midwest Independent Transmission System Operator, Inc.

Description: Midwest Independent Transmission System Operator, Inc. submits tariff filing per 35.13(a)(2)(iii: 2012-01-04 Appendix K TOA to be effective 12/18/2013.

Filed Date: 1/4/13.

Accession Number: 20130104-5122.

Comments Due: 5 p.m. ET 1/25/13.

Take notice that the Commission received the following electric securities filings:

Docket Numbers: ES13-13-000.

Applicants: Midwest Independent Transmission System Operator, Inc.

Description: Section 204 Application of Midwest Independent Transmission System Operator, Inc.

Filed Date: 1/4/13.

Accession Number: 20130104-5108.

Comments Due: 5 p.m. ET 1/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 04, 2013.
Nathaniel J. Davis, Sr.,
Deputy Secretary.

[FR Doc. 2013-00399 Filed 1-10-13; 8:45 am]

BILLING CODE 6717-01-P